NUCLEAR REGULATORY COMMISSION

[NRC-2009-0131]

Biweekly Notice; Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from February 26, 2009, through March 11, 2009. The last biweekly notice was published on March 10, 2009 (74 FR 10305).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, TWB-05-B01M, Division of Administrative Services, Office of Administration, U.S. Nuclear Regulatory Commission, Washington, DC 20555-0001, and should cite the publication date and page number of this Federal Register notice. Copies of written comments received may be examined at the Commission's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer ™ to access the Electronic Information Exchange (EIE), a component of the E-Filing system. The Workplace Forms Viewer ™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC electronic filing Help Desk, which is available between 8 a.m. and 8 p.m., Eastern Time, Monday through Friday, excluding government holidays. The help electronic filing Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Entergy Gulf States Louisiana, LLC, and Entergy Operations, Inc., Docket No. 50-458, River Bend Station, Unit 1, West Feliciana Parish, Louisiana

Date of Amendment Request: January 21, 2009, as supplemented on January 23, 2009.

Description of Amendment Request: The proposed changes to the Technical Specifications (TSs) adopt NRC-approved TS Task Force (TSTF) traveler TSTF 163, “Minimum vs. Steady-State Voltage and Frequency,” TSTF-222, “Control Rod Scram Time Testing,” TSTF-230, “Residual Heat Removal Suppression Pool Cooling Limiting Condition for Operation [LCO],” and TSTF-306, “LCO Action Note to Allow Unisolation of Penetration Flow Path(s),” and make two minor administrative corrections.

Basis for Proposed No Significant Hazards Consideration Determination: As required by 10 CFR 50.91(a), the licensee has provided its analysis of the issue of no significant hazards consideration for TSTF-230, which is presented below:

1. Does the Proposed Change Involve a Significant Increase in the Probability or Consequences of an Accident Previously Evaluated?

Response: No.

The proposed change relaxes the Required Actions of LCO [limiting condition for operation] 3.6.2.3 by allowing 8 hours to restore one RHR [residual heat removal] suppression pool cooling subsystem to OPERABLE status when both subsystems have been determined to be inoperable. Required Actions and their associated Completion Times are not initiating conditions for any accident previously evaluated. The proposed 8 hour Completion Time provides some time to restore required subsystem(s) to OPERABLE status, yet is short enough that operating an additional 8 hours is not a significant risk. The Required Actions in the proposed change have been developed to provide assurance that appropriate remedial actions are taken in response to the degraded condition, considering the operability status of the RHR Suppression Pool Cooling System and the capability of minimizing the risk associated with continued operation. As a result, neither the probability nor the consequences of any accident previously evaluated are significantly increased. Therefore, this change does not involve a significant increase in the probability or consequences of an accident previously evaluated.

2. Does the Proposed Change Create the Possibility of a New or Different Kind of Accident from Any Accident Previously Evaluated?

Response: No.

The proposed change does not involve a physical modification or alteration of plant equipment (no new or different type of equipment will be installed) or a change in the methods governing normal plant operation. The Required Actions and associated Completion Times in the proposed change have been evaluated to ensure that no new accident initiators are introduced. Thus, this change does not create the possibility of a new or different kind of accident from any accident previously evaluated.

3. Does the Proposed Change Involve a Significant Reduction in a Margin of Safety?

Response: No.

The relaxed Required Actions do not involve a significant reduction in a margin of safety. The proposed change has been evaluated to minimize the risk of continued operation with both RHR suppression pool cooling subsystems inoperable. The operability status of the RHR Suppression Pool Cooling System, a reasonable time for repair or replacement of required features, and the low probability of a design basis accident occurring during the repair period have been considered in the evaluation. Therefore, this change does not involve a significant reduction in a margin of safety.

The licensee has also provided its analysis of the issue of no significant hazards consideration for TSTFs-163, 222, and 306, and the proposed two minor administrative corrections, which is presented below:

1. Does the Proposed Change Involve a Significant Increase in the Probability or Consequences of an Accident Previously Evaluated?

Response: No.

The minor administrative changes which, (1) corrects Action Statement 3.7.2.F, and (2) changes a reference number from “ANSI N510-1989” to “ASME N510-1989,” has no impact on any structure, system, component, program, or analysis.

The adoption of TSTF-163 does not change the manner in which the EDGs [emergency diesel generators] are operated and, when implemented, will continue to ensure the EDGs perform their function when called upon. The proposed revision to the TS SRs [surveillance requirements] will continue to ensure that minimum frequency and voltage are attained within the required time. The SRs will continue to ensure that proper steady state voltage and frequency are attained consistent with proper EDG governor and voltage regulator performance. Therefore, the probability or consequences of previously evaluated accidents are not significantly increased.

The proposed change to adopt TSTF-222 is an administrative clarification of existing Technical Specification requirements regarding scram time testing requirements for control rods. It consists of administrative changes that involve wording changes that clarify requirements without changing the original intent. As such, these types of changes do not affect initiators of analyzed events and do not affect the mitigation of any accidents or transients.

The proposed change to adopt TSTF-306 allows primary containment and drywell isolation valves to be unisolated under administrative controls when the associated isolation instrumentation is not operable. The isolation function is an accident mitigating function and is not an initiator of an accident previously evaluated. Administrative controls are required to be in effect when the valves are unisolated so that the penetration can be rapidly isolated when the need is indicated. Therefore, the probability or consequences of previously evaluated accidents are not significantly increased.

Therefore, the proposed changes do not involve a significant increase in the probability or consequences of an accident previously evaluated.

2. Does the Proposed Change Create the Possibility of a New or Different Kind of Accident from Any Accident Previously Evaluated?

Response: No.

The minor administrative changes which, (1) corrects Action Statement 3.7.2.F, and (2) changes a reference number from “ANSI N510-1989” to “ASME N510-1989,” has no impact on any structure, system, component, program, or analysis.

The proposed changes do not involve a physical alteration of the plant (no new or different type of equipment will be installed), do not change the design function of any equipment, and do not change the methods of normal plant operation. Accordingly, the proposed changes do not create any new credible failure mechanisms, malfunctions, or accident initiators not previously considered in the RBS [River Bend Station] design and licensing basis.

Therefore, the proposed change does not create the possibility of a new or different kind of accident from any previously evaluated.

3. Does the Proposed Change Involve a Significant Reduction in a Margin of Safety?

Response: No.

The minor administrative changes which, (1) corrects Action Statement 3.7.2.F, and (2) changes a reference number from “ANSI N510-1989” to “ASME N510-1989,” has no impact on any structure, system, component, program, or analysis.

Adoption of TSTF-163 does not impact EDG performance, including the capability for each EDG to attain and maintain required voltage and frequency for accepting and supporting plant safety loads within the required time, as assumed in the plant safety analysis. The proposed change does not involve a significant reduction in a margin of safety since the operability of the EDGs continues to be determined as required to support the capability of the EDGs to provide emergency power to plant equipment that mitigate the consequences of an accident.

The proposed change associated with TSTF-222 involves an administrative clarification to better delineate the requirements for scram time testing control rods following refueling outages and for control rods requiring testing due to work activities. As such, the proposed change does not involve a significant reduction in the margin of safety.

The change to allow containment and drywell isolation valves to be unisolated under administrative control (TSTF-306) does not reduce any margins to safety because the proposed allowance for the supporting isolation instrumentation is no less restrictive than the allowance for the equipment it supports. When the valves are unisolated, the design basis function of containment isolation is maintained by administrative controls. The proposed changes have no affect on any safety analysis assumptions or methods of performing safety analyses. The changes do not adversely affect system operability or design requirements and the equipment continues to be tested in a manner and at a frequency necessary to provide confidence that the equipment can perform its intended safety functions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: Terence A. Burke, Associate General Counsel—Nuclear Entergy Services, Inc., 1340 Echelon Parkway, Jackson, Mississippi 39213.

NRC Branch Chief: Michael T. Markley.

Florida Power and Light Company, et al., Docket Nos. 50-335 and 50-389, St. Lucie Nuclear Plant, Unit Nos. 1 and 2, St. Lucie County, Florida

Date of Amendment Request: February 12, 2009.

Description of Amendment Request: The proposed amendment would delete those portions of Technical Specifications (TS) superseded by Title 10 of the Code of Federal Regulations (10 CFR), Part 26, Subpart I. This change is consistent with Nuclear Regulatory Commission approved Technical Specification Task Force (TSTF) Improved Standard Technical Specification Change Traveler TSTF-511, “Revision 0, “Eliminate Working Hour Restrictions from TS 5.2.2 to Support Compliance with 10 CFR Part 26.”

Basis for Proposed No Significant Hazards Consideration Determination: As required by 10 CFR 50.91(a), the licensee has provided its analysis of the issue of no significant hazards consideration is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected. Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR Part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition. Removal of plant-specific Technical Specification administrative requirements will not reduce a margin of safety because the requirements in 10 CFR Part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: M.S. Ross, Attorney, Florida Power & Light, P.O. Box 14000, Juno Beach, Florida 33408-0420.

NRC Branch Chief: Thomas H. Boyce.

FPL Energy Duane Arnold, LLC, Docket No. 50-331, Duane Arnold Energy Center, Linn County, Iowa

Date of Amendment Request: January 30, 2009.

Description of Amendment Request: The proposed amendment would delete the Duane Arnold Energy Center (DAEC) Technical Specification (TS) Section 5.2.2.e regarding work hour controls.

Basis for Proposed No Significant Hazards Consideration Determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or [a]ffect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR Part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR Part 26 are adequate to ensure that worker fatigue is managed.

Therefore, the proposed change does not involve a significant reduction in a margin of safety.

The NRC staff has reviewed the licensee's analysis, and based on this review, it appears that the three standards of 10 CFR 50.92(c) are satisfied. Therefore, the NRC staff proposes to determine that the amendment request involves no significant hazards consideration.

Attorney for Licensee: Mr. R. E. Helfrich, Florida Power & Light Company, P.O. Box 14000, Juno Beach, FL 33408-0420.

NRC Branch Chief: Lois M. James.

Pacific Gas and Electric Company, Docket Nos. 50-275 and 50-323, Diablo Canyon Nuclear Power Plant, Unit Nos. 1 and 2, San Luis Obispo County, California

Date of Amendment Request: February 24, 2009.

Description of Amendment Request: The proposed amendment would revise the Diablo Canyon Power Plant (DCPP), Units 1 and 2 Technical Specification (TS) 3.3.1, “Reactor Trip System (RTS) Instrumentation.” The amendment will delete the requirement for the power range neutron flux rate-high negative rate trip function as specified in TS Table 3.3.1-1, “Reactor Trip System Instrumentation,” as Function 3.b, “Power Range Neutron Flux Rate-High Negative Rate.”

Basis for Proposed No Significant Hazards Consideration Determination: As required by 10 CFR 50.91(a), the licensee has provided its analysis of the issue of no significant hazards consideration, which is presented below:

1. Does the Proposed Change Involve a Significant Increase in the Probability or Consequences of an Accident Previously Evaluated?

Response: No.

The removal of the power range neutron flux rate-high negative rate trip function from the DCPP TS does not increase the probability or consequences of accidents resulting from dropped RCCA [rod cluster control assembly] events previously analyzed. The safety functions of other safety-related systems and components, which are related to mitigation of these events, have not been altered. All other reactor trip system protection functions are not impacted by the deletion of the trip function. The dropped RCCA accident analysis does not rely on the negative flux rate trip to safely shut down the plant. The safety analysis of the plant is unaffected by the proposed change. Since the safety analysis is unaffected, the calculated radiological releases associated with the analysis are not affected.

Therefore, the proposed change does not involve a significant increase in the probability or consequences of an accident previously evaluated.

2. Does the Proposed Change Create the Possibility of a New or Different Accident from Any Accident Previously Evaluated?

Response: No.

The proposed change does not adversely alter the design assumptions, conditions, or configuration of the facility or the manner in which the plant is operated. No new accident scenarios, failure mechanisms, or limiting single failures are introduced as a result of the proposed change. The proposed change does not challenge the performance or integrity of any safety-related systems or components. NRC-approved Westinghouse Topical Report WCAP-11394-P-A, “Methodology for the Analysis of the Dropped Rod Event,” dated January 1990, has demonstrated that the negative flux rate trip function can be deleted.

Therefore, the proposed change does not create the possibility of a new or different accident from any accident previously evaluated.

3. Does the Proposed Change Involve a Significant Reduction in a Margin of Safety?

Response: No.

The margin of safety associated with the acceptance criteria of any accident is unchanged. It has been demonstrated that the negative flux rate trip function can be deleted by the NRC-approved methodology described in WCAP-11394-P-A. DCPP cycle-specific analyses have confirmed that for dropped RCCA events, limits on DNB [departure from nucleate boiling] are not exceeded by deleting the negative flux rate trip. The proposed change will have no effect on the availability, operability, or performance of safety-related systems and components.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for Licensee: Jennifer Post, Esq., Pacific Gas and Electric Company, P.O. Box 7442, San Francisco, California 94120.

NRC Branch Chief: Michael T. Markley.

South Carolina Electric & Gas Company, South Carolina Public Service Authority, Docket No. 50-395, Virgil C. Summer Nuclear Station, Unit No. 1, Fairfield County, South Carolina

Date of Amendment Request: February 17, 2009.

Description of Amendment Request: The licensee proposes to amend the operating license for Virgil C. Summer Nuclear Station, by revising the technical specifications (TS) and incorporating an alternative source term (AST) methodology into the facility's licensing basis. The proposed license amendment involves a full implementation of an AST methodology by revising the current accident source term and replacing it with an AST, as prescribed in 10 CFR 50.67.

AST analyses were performed using the guidance provided by Regulatory Guide (RG) 1.183, “Alternative Source Terms for Evaluating Design Basis Accidents at Nuclear Power Reactors,” dated July 2000, and Standard Review Plan (SRP) Section 15.0.1, “Radiological Consequences Analyses Using Alternative Source Terms.” TS changes are also proposed to implement Technical Specifications Task Force Traveler 51, Revision 2, which permits removal of the TS requirements for engineered safety features to be operable after sufficient radioactive decay has occurred to ensure off-site doses remain below the SRP limits. Other TS revisions reflect the update of the accident source term and associated design basis accidents utilizing the guidance provided in RG 1.183 and the associated control room and offsite dose requirements of 10 CFR 50.67. The AST analyses are based on new control room habitability atmospheric dispersion coefficients based on site specific meteorological data in accordance with RG 1.194.

Basis for Proposed No Significant Hazards Consideration Determination: As required by10 CFR 50.91(a), the licensee has provided its analysis of the issue of no significant hazards consideration, which is presented below:

1.0 Does the Proposed Change Involve a Significant Increase in the Probability of Occurrence or Consequences of an Accident Previously Evaluated?

Response: No.

Adoptions of the AST and pursuant TS changes and the changes to the atmospheric dispersion factors have no impact to the initiation of DBAs. Once the occurrence of an accident has been postulated, the new accident source term and atmospheric dispersion factors are an input to analyses that evaluate the radiological consequences. Some of the proposed changes do affect the design or manner in which the facility is operated following an accident; however, the proposed changes do not involve a revision to the design or manner in which the facility is operated that could increase the probability of an accident previously evaluated in Chapter 15 of the FSAR.

Therefore, the proposed change does not involve an increase in the probability of an accident previously evaluated.

The structures, systems and components affected by the proposed changes act as mitigators to the consequences of accidents. Based on the AST analyses, the proposed changes do revise certain performance requirements; however, the proposed changes do not involve a revision to the parameters or conditions that could contribute to the initiation of an accident previously discussed in Chapter 15 of the FSAR.

Plant-specific radiological analyses have been performed using the AST methodology and new atmospheric dispersion factors. Based on the results of these analyses, it has been demonstrated that the CRHE dose consequences of the limiting events considered in the analyses meet the regulatory guidance provided for use with the AST, and the offsite doses are within acceptable limits. This guidance is presented in 10 CFR 50.67, RG 1.183, and Standard Review Plan Section (SRP) 15.0.1.

Therefore, the proposed amendment does not result in a significant increase in the consequences of any previously evaluated accident.

2.0 Does the Proposed Change Create the Possibility of a New or Different Kind of Accident From Any Accident Previously Evaluated?

Response: No.

Implementation of AST and the associated proposed TS changes and new atmospheric dispersion factors do not alter or involve any design basis accident initiators. With the exception of the fuel handling accident, these changes do not affect the design function or mode of operations of structures, systems and components in the facility prior to a postulated accident. Since structures, systems and components are operated essentially no differently after the AST implementation, no new failure modes are created by this proposed change. The alternative source term change itself does not have the capability to initiate accidents.

For the fuel handling accident, the Improved Standard Technical Specifications Change Traveler (TSTF-51, Revision 2) permits removal of the Technical Specification requirements for ESF features to be operable after sufficient radioactive decay has occurred to ensure off-site doses remain below the SRP limits. As noted in this submittal no credit is taken for the accident mitigation of the ESF features associated with the fuel handling accidents to meet these limits. Since these are not associated with accident initiators the proposed license amendment will not create the possibility of a new or different kind of accident from any accident previously evaluated.

3.0 Does the Proposed Change Involve a Significant Reduction in a Margin of Safety?

Response: No.

The results of the AST analyses are subject to the acceptance criteria in 10 CFR 50.67. The analyzed events have been carefully selected, and the analyses supporting these changes have been performed using approved methodologies to ensure that analyzed events are bounding and safety margin has not been reduced. The dose consequences of these limiting events are within the acceptance criteria presented in 10 CFR 50.67, RG 1.183, and SRP 15.0.1. Thus, by meeting the applicable regulatory limits for AST, there is no significant reduction in a margin of safety.

New Control Room atmospheric dispersion factors (X/Qs) based on site specific meteorological data, calculated in accordance with the guidance of RG 1.194, utilizes more recent data and improved calculational methodologies.

For the fuel handling accident, the Improved Standard Technical Specifications Change Traveler (TSTF-51, Revision 2) permits removal of the Technical Specification requirements for ESF features to be operable after sufficient radioactive decay has occurred to ensure off-site doses remain below the SRP limits. Following sufficient decay, the primary success paths for mitigating the fuel handling accident no longer includes the functioning of the active containment or fuel handling building systems. With the proposed changes, the OPERABILITY requirements of the Technical Specifications will reflect that water level (23′) and decay time (72 hours after shutdown) are the primary success path for mitigating a fuel handling accident.

Therefore, because the proposed changes continue to result in dose consequences within the applicable regulatory limits, the changes are considered to not result in a significant reduction in a margin of safety.

The NRC staff has reviewed the licensee's analysis and, based on this review, it appears that the three standards of 10 CFR 50.92(c) are satisfied. Therefore, the NRC staff proposes to determine that the amendment request involves no significant hazards consideration.

Attorney for Licensee: J. Hagood Hamilton, Jr., South Carolina Electric & Gas Company, Post Office Box 764, Columbia, South Carolina 29218.

NRC Branch Chief: Melanie C. Wong.

South Carolina Electric & Gas Company, South Carolina Public Service Authority, Docket No. 50-395, Virgil C. Summer Nuclear Station, Unit No. 1, Fairfield County, South Carolina

Date of Amendment Request: March 2, 2009.

Description of Amendment Request: The proposed amendment would delete those portions of technical specifications (TS) superseded by Title 10 of the Code of Federal Regulations (10 CFR ) Part 26, Subpart I. This change is consistent with the Nuclear Regulatory Commission (NRC)-approved Revision 0 to Technical Specification Task Force (TSTF) Traveler, TSTF-511, “Eliminate Working Hour Restrictions from TS 5.2.2 to Support Compliance with 10 CFR Part 26.” The availability of this TS improvement was announced in the Federal Register on December 30, 2008, (73 FR 79923) as part of the consolidated line item improvement process.

Basis for Proposed No Significant Hazards Consideration Determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR Part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shut down the plant and to maintain the plant in a safe shutdown condition.

Removal of plant-specific Technical Specification administrative requirements will not reduce a margin of safety because the requirements in 10 CFR Part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: J. Hagood Hamilton, Jr., South Carolina Electric & Gas Company, Post Office Box 764, Columbia, South Carolina 29218.

NRC Branch Chief: Melanie C. Wong.

Virginia Electric and Power Company, Docket Nos. 50-338 and 50-339, North Anna Power Station, Unit Nos. 1 and 2, Louisa County, Virginia

Date of Amendment Request: February 6, 2009.

Description of Amendment Request: The proposed amendments would delete applicable portions of the technical specifications (TSs) superseded by Part 26, Subpart I of Title 10 of the Code of Federal Regulations (10 CFR). This change is consistent with Nuclear Regulatory Commission (NRC)-approved Revision 0 to Technical Specification Task Force (TSTF) Improved Standard Technical Specification Change Traveler, TSTF-511, “Eliminate Working Hour Restrictions from TS 5.2.2 to Support Compliance with 10 CFR Part 26.” The availability of this TS improvement was announced in the Federal Register on December 30, 2008 (73 FR 79923) as part of the consolidated line item improvement process. The licensee affirmed the applicability of the model no significant hazards consideration determination in its application.

Basis for Proposed No Significant Hazards Consideration Determination: As required by 10 CFR 50.91(a), an analysis of the issue of no significant hazards consideration adopted by the licensee is presented below:

Criterion 1: The Proposed Change Does Not Involve a Significant Increase in the Probability or Consequences of an Accident Previously Evaluated

The proposed change removes TS restrictions on working hours for personnel who perform safety related functions. The TS restrictions are superseded by the worker fatigue requirements in 10 CFR Part 26. Removal of the TS requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes TS restrictions on working hours for personnel who perform safety related functions. The TS restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The Proposed Change Does Not Involve a Significant Reduction in a Margin of Safety

The proposed change removes TS restrictions on working hours for personnel who perform safety related functions. The TS restrictions are superseded by the worker fatigue requirements in 10 CFR Part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific TS administrative requirements will not reduce a margin of safety because the requirements in 10 CFR Part 26 are adequate to ensure that worker fatigue is managed.

Therefore, the proposed change does not involve a significant reduction in a margin of safety.

The NRC staff has reviewed the licensee's incorporation of the above analysis by reference and, based on this review, it appears that the three standards of 10 CFR 50.92(c) are satisfied. The NRC staff proposes to determine that the amendment request involves no significant hazards consideration.

Attorney for Licensee: Lillian M. Cuoco, Esq., Senior Counsel, Dominion Resources Services, Inc., 120 Tredegar Street, RS-2, Richmond, VA 23219.

NRC Branch Chief: Melanie C. Wong.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Calvert Cliffs Nuclear Power Plant, Inc., Docket Nos. 50-317 and 50-318, Calvert Cliffs Nuclear Power Plant, Unit Nos. 1 and 2, Calvert County, Maryland

Date of Application for Amendments: August 27, 2008, as supplemented by letters dated December 11, 2008, and March 2, 2009.

Brief Description of Amendments: The amendments revise Technical Specification 3.5.5, “Trisodium Phosphate (TSP),” by changing the containment buffering agent from trisodium phosphate to sodium tetraborate. The change will minimize the potential for sump screen blockage under loss-of-coolant accident conditions due to potential chemical interactions between trisodium phosphate and insulation materials inside containment.

Date of Issuance: March 4, 2009.

Effective Date: As of the date of issuance. Implementation at Unit No. 1 shall be no later than startup from the spring 2010 refueling outage whereas implementation at Unit No. 2 shall be prior to entry into Mode 4 following the spring 2009 refueling outage.

Amendment Nos.: 290 and 266.

Renewed Facility Operating License Nos. DPR-53 and DPR-69: Amendments revised the License and Technical Specifications.

Date of Initial Notice in Federal Register: October 21, 2008 (73 FR 62562). The supplemental letters dated December 11, 2008, and March 2, 2009, provided additional information that clarified the application, did not expand the scope of the application as originally noticed, and did not change the staff's original proposed no significant hazards consideration determination as published in the Federal Register.

The Commission's related evaluation of these amendments is contained in a Safety Evaluation dated March 4, 2009.

No Significant Hazards Consideration Comments Received: No.

Duke Energy Carolinas, LLC, et al., Docket Nos. 50-369 and 50-370, McGuire Nuclear Station, Units 1 and 2, Mecklenburg County, North Carolina

Date of Application for Amendments: December 11, 2007, as supplemented December 18, 2008.

Brief Description of Amendments: The amendments revised the Technical Specifications sections to allow the bypass test times and Completion Times (CTs) for Limiting Condition for Operation (LCOs) 3.3.1, “Reactor Trip System (RTS) Instrumentation” and 3.3.2, “Engineered Safety Feature Actuation System (ESFAS) Instrumentation.”

By letter dated December 30, 2008 (Agencywide Documents Access and Management System Accession No. ML083520046), the Nuclear Regulatory Commission issued Amendment No. 248 and Amendment No. 228 for McGuire Units 1 and 2, respectively, for all the proposed changes approved by the NRC in TSTFs 411 and 418. The December 30, 2008 amendment stated that the following changes would be evaluated in a future amendment:

LCO 3.3.1, “RTS Instrumentation,” Condition N, One Reactor Coolant Flow—Low (Single Loop) channel inoperable, LCO 3.3.2, “ESFAS Instrumentation,” Condition D, Auxiliary Feedwater Start with Station Blackout.”

This amendment approves the above changes.

Date of Issuance: March 9, 2009.

Effective Date: As of the date of issuance and shall be implemented within 90 days from the date of issuance.

Amendment Nos.: 250 and 230.

Facility Operating License Nos. NPF-9 and NPF-17: Amendments revised the licenses and the technical specifications.

Date of Initial Notice in Federal Register: March 25, 2008 (73 FR 15783). The supplement dated December 18, 2008, provided additional information that clarified the application, did not expand the scope of the application as originally noticed, and did not change the staff's original proposed no significant hazards consideration determination.

The Commission's related evaluation of the amendments is contained in a Safety Evaluation dated March 9, 2009.

No Significant Hazards Consideration Comments Received: No.

Entergy Nuclear Vermont Yankee, LLC and Entergy Nuclear Operations, Inc., Docket No. 50-271, Vermont Yankee Nuclear Power Station, Vernon, Vermont

Date of Application for Amendment: September 4, 2008, as supplemented by letter dated January 28, 2009.

Brief Description of Amendment: The amendment revised the Technical Specification (TS) Section 5.1, “Site,” to remove the restriction on the sale and lease of site property and replace the restriction with a requirement to retain complete authority to determine and maintain sufficient control of all activities, including the authority to exclude or remove personnel and property, within the minimum exclusion area.

Date of Issuance: February 26, 2009.

Effective Date: As of the date of issuance, and shall be implemented within 60 days.

Amendment No.: 235.

Facility Operating License No. DPR-28: Amendment revised the License and Technical Specifications.

Date of Initial Notice in Federal Register: November 4, 2008 (73 FR 65692). The supplemental letter dated January 28, 2009, provided additional information that clarified the application, did not expand the scope of the application as originally noticed, and did not change the staff's original proposed no significant hazards consideration determination. The Commission's related evaluation of this amendment is contained in a Safety Evaluation dated February 26, 2009.

No Significant Hazards Consideration Comments Received: No.

Entergy Operations, Inc., Docket No. 50-368, Arkansas Nuclear One, Unit No. 2, Pope County, Arkansas

Date of Application for Amendment: July 21, 2008, as supplemented by letter dated December 11, 2008.

Brief Description of Amendment: The amendment relocated Technical Specification (TS) 3.7.8, “Shock Suppressors (Snubbers),” to the Technical Requirements Manual. In addition, the amendment revised TS requirements for inoperable snubbers by adding Limiting Condition for Operation (LCO) 3.0.8 on the inoperability of snubbers. The amendment also makes conforming changes to TS LCO 3.0.1. This amendment is consistent with U.S. Nuclear Regulatory Commission-approved Industry/Technical Specification Task Force (TSTF) Standard Technical Specification change TSTF-372, Revision 4, “Addition of LCO 3.0.8, Inoperability of Snubbers.”

Date of Issuance: March 6, 2009.

Effective Date: As of the date of issuance and shall be implemented within 60 days from the date of issuance.

Amendment No.: 283.

Renewed Facility Operating License No. NPF-6: Amendment revised the Technical Specifications/license.

Date of Initial Notice in Federal Register: November 4, 2008 (73 FR 65693). The supplemental letter dated December 11, 2008, provided additional information that clarified the application, did not expand the scope of the application as originally noticed, and did not change the staff's original proposed no significant hazards consideration determination as published in the Federal Register.

The Commission's related evaluation of the amendment is contained in a Safety Evaluation dated March 6, 2009.

No Significant Hazards Consideration Comments Received: No.

Entergy Operations, Inc., System Energy Resources, Inc., South Mississippi Electric Power Association, and Entergy Mississippi, Inc., Docket No. 50-416, Grand Gulf Nuclear Station, Unit 1, Claiborne County, Mississippi

Date of Application for Amendment: September 11, 2008.

Brief Description of Amendment: The amendment revised several surveillance requirements (SRs) and added SR 3.8.1.21 in Technical Specification (TS) 3.8.1, “AC [alternating current] Sources—Operating,” and TS 3.8.2, “AC Sources—Shutdown.” The changes allow the slow-start testing sequence of the diesel generators in order to reduce the stress and wear on the equipment.

Date of Issuance: March 4, 2009.

Effective Date: As of the date of issuance and shall be implemented within 45 days of issuance.

Amendment No.: 182.

Facility Operating License No. NPF-29: The amendment revises the Facility Operating License and Technical Specifications.

Date of Initial Notice in Federal Register: October 7, 2008 (73 FR 58673).

The Commission's related evaluation of the amendment is contained in a Safety Evaluation dated March 4, 2009.

No Significant Hazards Consideration Comments Received: No.

Exelon Generation Company, LLC, Docket Nos. 50-373 and 50-374, LaSalle County Station, Units 1 and 2, LaSalle County, Illinois

Date of Application for Amendments: May 2, 2008, as supplemented by letter dated July 23, 2008.

Brief Description of Amendments: The amendments modify technical specification (TS) 3.8.3, “Diesel Fuel Oil and Starting Air,” to replace the numerical volume requirements for stored diesel fuel oil inventory with requirements that state that volumes equivalent to 7 days and 6 days of fuel oil are available, and to move the diesel fuel oil numerical volumes equivalent to 7 day and 6 day supplies to the TS Bases.

Date of Issuance: March 9, 2009.

Effective Date: As of the date of issuance and shall be implemented within 60 days.

Amendment Nos.: 191 and 178.

Facility Operating License Nos. NPF-11 and NPF-18: The amendments revised the Technical Specifications and License.

Date of Initial Notice in Federal Register: August 12, 2008 (73 FR 46930). The July 23, 2008 supplement, contained clarifying information and did not change the NRC staff's initial proposed finding of no significant hazards consideration.

The Commission's related evaluation of the amendments is contained in a Safety Evaluation dated March 9, 2009.

No Significant Hazards Consideration Comments Received: No.

PPL Susquehanna, LLC, Docket No. 50-388, Susquehanna Steam Electric Station, Unit 2, Luzerne County, Pennsylvania

Date of Application for Amendment: October 30, 2008, as supplemented by letters dated November 12, 2008 and January 23, 2009.

Brief Description of Amendment: This amendment request would revise PPL Susquehanna, LLC, Unit 2 Technical Specifications Section 2.1.1.2, Minimum Critical Power Ratio Safety Limits for two-loop and single-loop operation and adds an associated License Condition in the Facility Operating License.

Date of Issuance: February 26, 2009.

Effective Date: February 26, 2009.

Amendment No.: 230.

Facility Operating License No. NPF-22: This amendment revised the License and Technical Specifications.

Date of Initial Notice in Federal Register: January 23, 2009 (74 FR 4254). The supplements dated November 21, 2008, and January 23, 2009, provided additional information that clarified the application, did not expand the scope of the application as originally noticed, and did not change the staff's original proposed no significant hazards consideration determination as published in the Federal Register on January 23, 2009 (74 FR 4254).

The Commission's related evaluation of the amendment is contained in a Safety Evaluation dated February 26, 2009.

No Significant Hazards Consideration Comments Received: No.

PSEG Nuclear LLC, Docket No. 50-354, Hope Creek Generating Station, Salem County, New Jersey

Date of Application for Amendment: April 25, 2008, as supplemented by letter dated January 7, 2009.

Brief Description of Amendment: The amendment revises the Technical Specifications (TSs) to remove the restriction on operation of the hydrogen water chemistry system at low power levels.

Date of Issuance: March 4, 2009.

Effective Date: As of the date of issuance, to be implemented within 30 days.

Amendment No.: 176.

Facility Operating License No. NPF-57: The amendment revised the TSs and the License.

Date of Initial Notice in Federal Register: July 29, 2008 (73 FR 43957). The letter dated January 7, 2009, provided clarifying information that did not change the initial proposed no significant hazards consideration determination or expand the application beyond the scope of the original Federal Register notice.

The Commission's related evaluation of the amendment is contained in a Safety Evaluation dated March 4, 2009.

No Significant Hazards Consideration Comments Received: No.

Tennessee Valley Authority, Docket No. 50-390, Watts Bar Nuclear Plant, Unit 1, Rhea County, Tennessee

Date of Application for Amendment: September 18, 2008, as supplemented February 11, 2009.

Brief Description of Amendment: The amendment revised requirements for the auxiliary feedwater system auto-start function associated with the trip of main feedwater pumps.

Date of Issuance: March 4, 2009.

Effective Date: As of the date of issuance and shall be implemented within 270 days of issuance.

Amendment No.: 75.

Facility Operating License No. NPF-90: Amendment revises the Technical Specifications.

Date of Initial Notice in Federal Register: November 4, 2008 (73 FR 65698). The supplement dated February 11, 2009, provided additional information that clarified the application, did not expand the scope of the application as originally noticed, and did not change the staff's original proposed no significant hazards consideration determination as published in Federal Register.

The Commission's related evaluation of the amendment is contained in a Safety Evaluation dated March 4, 2009.

No Significant Hazards Consideration Comments Received: No.

Dated at Rockville, Maryland, this 13th day of March 2009.
For the Nuclear Regulatory Commission.
Joseph G. Giitter,
Director, Division of Operating Reactor Licensing, Office of Nuclear Reactor Regulation.

[FR Doc. E9-6112 Filed 3-23-09; 8:45 am]

BILLING CODE 7590-01-P